DEPARTMENT OF TRANSPORTATION

Coast Guard

33 CFR Part 117

[CGD01-01-013]

Drawbridge Operation Regulations: Chelsea River, MA

AGENCY: Coast Guard, DOT.

ACTION: Notice of temporary deviation from regulations.

SUMMARY: The Commander, First Coast Guard District, has issued a temporary deviation from the drawbridge operation regulations governing the operation of the Chelsea Street Bridge, at mile 1.2, across the Chelsea River between East Boston and Chelsea, Massachusetts. This deviation allows the bridge owner to keep the bridge in the closed position from 6 a.m. on February 7, 2001 through 6 a.m. on February 8, 2001 and from 6 a.m. on February 21, 2001 through 6 a.m. on February 22, 2001. This action is necessary to facilitate emergency maintenance at the bridge.

DATES: This deviation is effective from February 7, 2001 through February 8, 2001 and from February 21, 2001 through February 22, 2001.

FOR FURTHER INFORMATION CONTACT: John W. McDonald, Project Officer, First Coast Guard District, at (617) 223-8364.

SUPPLEMENTARY INFORMATION: The Chelsea Street Bridge, at mile 1.2, across the Chelsea River, has a vertical clearance of 9 feet at mean high water, and 19 feet at mean low water in the closed position. The existing drawbridge operating regulations require the bridge to open on signal at all times.

The bridge owner, the City of Boston, requested a temporary deviation from the drawbridge operating regulations to facilitate emergency structural maintenance and repairs to the alternate operating system at the bridge.

This deviation from the operating regulations allows the bridge owner to keep the bridge in the closed position from 6 a.m. on February 7, 2001 through 6 a.m. on February 8, 2001 and from 6 a.m. on February 21, 2001 through 6 a.m. on February 22, 2001.

Thirty days notice to the Cost Guard for approval of this maintenance repair was not given by the bridge owner and was not required because this work involves vital, unscheduled maintenance that must be performed without undue delay.

Vessels that can pass under the bridge without an opening may do so at all times during the closed period.

In accordance with 33 CFR 117.35(c), this work will be performed with all due speed in order to return the bridge to normal operation as soon as possible. This deviation from the operating regulations is authorized under 33 CFR 117.35.

Dated: January 30, 2001.
G.N. Naccara,
U.S. Coast Guard, Commander, First Coast Guard District.

[FR Doc. 01-3375 Filed 2-8-01; 8:45 am]

BILLING CODE 4910-15-M